COUNCIL ON ENVIRONMENTAL QUALITY

[CEQ-2022-0004]

Environmental Justice Scorecard Feedback

AGENCY: Council on Environmental Quality.

ACTION: Request for information.

SUMMARY: The Council on Environmental Quality is issuing this request for information (RFI) to solicit feedback on the vision, framework, and outcomes of the Environmental Justice Scorecard.

DATES: Responses to this RFI should be received by October 3, 2022.

ADDRESSES: You may submit comments, identified by docket number CEQ-2022-0004, by any of the following methods:

• Federal eRulemaking Portal: https://www.regulations.gov. Follow the instructions for submitting comments.

• Fax: 202-456-6546.

• Mail: Council on Environmental Quality, 730 Jackson Place NW, Washington, DC 20503.

All submissions received must include the agency name, “Council on Environmental Quality,” and the docket number, CEQ-2022-0004, for this RFI. All comments received will be posted without change to https://www.regulations.gov, including any personal information provided. Do not submit electronically any information you consider to be private, Confidential Business Information (CBI), or other information the disclosure of which is restricted by statute.

You may respond to some or all of the questions listed in the RFI. You may include references to academic literature or links to online material but please ensure all links are publicly available. Each response should include:

• The name of the individual(s) or entity responding.

• A brief description of the responding individual(s) or entity's mission or areas of expertise.

• A contact for questions or other follow-up on your response.

FOR FURTHER INFORMATION CONTACT: Issues regarding submission or questions on this RFI can be sent to Sharmila L. Murthy at 202-395-5750 or Sharmila.L.Murthy@ceq.eop.gov.

SUPPLEMENTARY INFORMATION:

I. Background

Many communities across the country face environmental injustices. These communities have been overburdened by pollution and underserved by critical infrastructure and services, leading to negative health impacts and outcomes. Communities that suffer from environmental injustices include low income communities, communities of color, and Tribal Nations. Furthermore, these same communities are too often left out of decision making that directly impacts their health and well-being. President Biden has committed to charting a new and better course, one that puts environmental and economic justice for communities at the center of the Federal Government's work.

Within his first days in office, President Biden signed Executive Order 14008 on Tackling the Climate Crisis at Home and Abroad, stating that agencies must make achieving environmental justice part of their missions by developing programs, policies, and activities to address the disproportionately high and adverse human health, environmental, climate-related, and other cumulative impacts on disadvantaged communities, as well as the accompanying economic challenges of such impacts.

The Executive Order mandates the development of performance measures for an annual Environmental Justice Scorecard, which will aim to detail the efforts of the Federal Government to address historic and current environmental injustices.

As outlined in the Executive Order, the Environmental Justice Scorecard will be developed in collaboration with the Executive Office of the President and with the White House Environmental Justice Interagency Council (IAC). It will be guided by recommendations by the White House Environmental Justice Advisory Council (WHEJAC), with input by environmental justice stakeholders. The WHEJAC's Phase One Recommendations on the Environmental Justice Scorecard informed the development of this RFI, and will continue to inform the vision, scale, and scope of the Environmental Justice Scorecard.

The Environmental Justice Scorecard will be the first government-wide assessment of Federal agencies' efforts to advance environmental justice. The Environmental Justice Scorecard will evolve over time, with the goal of creating a robust and comprehensive assessment of the Federal Government's efforts to secure environmental justice for all. It eventually will be located on a public, web-based platform that is easy to use.

The first version of the Environmental Justice Scorecard will provide a baseline assessment of the Federal Government's efforts to secure environmental justice. It will focus on and describe the processes and progress that Federal agencies have made starting in 2021. This baseline is critical to establish because it will enable the measurement of progress over time. The Federal Government will then build on and improve the Scorecard, year after year.

Initially, the Environmental Justice Scorecard will focus on three main categories. It will highlight activities by Federal agencies to: (1) reduce harms and burdens borne disproportionately by communities, (2) deliver investment benefits, and (3) undertake institutional reform to center community voices in decision making. This framework reflects the Administration's commitment to begin repairing historic wrongs, to strive towards delivering tangible benefits to communities, and to work towards ensuring that the voices and needs of communities are elevated and centered in decision making.

As part of this broader effort to assess progress on environmental justice, the Environmental Justice Scorecard also will measure progress made towards the Justice40 Initiative. In Executive Order 14008, President Biden set of a goal of ensuring that 40 percent of the overall benefits of certain Federal investments—those made in climate, clean energy and energy efficiency, clean transit, affordable and sustainable housing, training and workforce development, the remediation and reduction of legacy pollution, and the development of critical clean water infrastructure—flow to disadvantaged communities that are marginalized and overburdened by pollution and underinvestment in basic services.

This RFI is part of the Administration's commitment to ensuring that environmental justice efforts within the Federal Government, including the development of the Environmental Justice Scorecard, are informed by the priorities and perspectives of communities that face environmental injustices. By soliciting input through this RFI, CEQ seeks to provide transparency about the Federal Government's vision, goals, and process so that the public is better able to monitor the government's progress and hold the government accountable for delivering results.

II. Key Questions for Input

A. Vision

i. The vision for the Environmental Justice Scorecard is as a robust and comprehensive assessment of the Federal Government's efforts to address current and historic environmental injustice, including the Justice40 Initiative.

ii. Question

1. Does this vision reflect the needs and priorities of communities that face environmental injustices?

B. Framework

i. In the first version of the Environmental Justice Scorecard, Federal Government activities will be organized in three reporting categories.

1. Reducing Burdens and Harms in Communities: This category would measure the regulatory, enforcement, and other actions taken to reduce harms and environmental injustices.

2. Benefits to Communities: This category would measure the Administration's progress on implementation of the Justice40 Initiative, among other environmental justice efforts.

3. Centering Justice in Decision Making: This category would capture measures taken to reform agency decision making to incorporate the perspectives, priorities, and lived experiences of environmental justice communities.

ii. Questions

1. Do these categories broadly reflect the needs, priorities, and impacts that communities are facing from environmental injustices?

2. For the first version of the Environmental Justice Scorecard, what processes and markers of progress should be reflected in each of these categories?

3. In the long term, what are the desired outcomes that could be included in each of these categories?

C. Engagement

i. Please provide recommendations on how to improve engagement with, and around, the Environmental Justice Scorecard. In particular, what are ways to improve sharing information about the Environmental Justice Scorecard?

ii. For a future website, what are some usability and accessibility features that should be considered for an online platform?

D. Additional feedback

i. Please provide additional feedback on the vision, framework, and outcomes of the Environmental Justice Scorecard. Feedback on the vision for the first version, and on future versions, is welcome.

Matthew G. Lee-Ashley,
Chief of Staff.

[FR Doc. 2022-16635 Filed 8-2-22; 8:45 am]

BILLING CODE 3325-F2-P